DEPARTMENT OF COMMERCE

National Oceanic and Atmospheric Administration

RIN 0648-XF026

Magnuson-Stevens Act Provisions; Fisheries of the Northeastern United States; Northeast Multispecies Fishery; Approved Monitoring Service Providers

AGENCY: National Marine Fisheries Service (NMFS), National Oceanic and Atmospheric Administration (NOAA), Commerce.

ACTION: Notice of approved monitoring service providers.

SUMMARY: NMFS has approved five companies to provide at-sea monitoring services to Northeast multispecies sectors in fishing years 2017 and 2018. Regulations implementing the Northeast Multispecies Fishery Management Plan require at-sea monitoring companies to apply to, and be approved by, NMFS in order to be eligible to provide at-sea monitoring services to sectors. This action will allow sectors to contract at-sea monitoring services with any of the approver providers for fishing years 2017 and 2018.

ADDRESSES: The list of NMFS-approved sector monitoring service providers are available at: http://www.greateratlantic.fisheries.noaa.gov/sustainable/species/multispecies/, or by sending a written request to: 55 Great Republic Drive, Gloucester, MA 01930, Attn: Kyle Molton.

FOR FURTHER INFORMATION CONTACT: Kyle Molton, Fishery Management Specialist, (978) 281-9236, fax (978) 281-9135, email Kyle.Molton@noaa.gov.

SUPPLEMENTARY INFORMATION: Amendment 16 (75 FR 18262; April 9, 2010) to the Northeast Multispecies Fishery Management Plan (FMP) expanded the sector management program, including a requirement for industry-funded monitoring of catch by sector vessels. Framework Adjustment 48 to the FMP (78 FR 26118; May 3, 2013) revised the goals and objectives for sector monitoring programs. Sectors must employ approved independent third-party monitoring companies to provide at-sea monitoring services to their vessels.

Standards for Approving At-Sea Monitoring Service Providers

We are transitioning from an annual approval process to biennial approval to provide sectors additional stability and flexibility in negotiating contracts with monitoring companies. Applications approved this year will cover both fishing year 2017 and fishing year 2018 (May 1, 2017, through April 30, 2019). There will be an opportunity in 2017 for additional monitoring companies to apply for approval to provide services in fishing year 2018.

The regulations at 50 CFR 648.87(b)(4) describe the criteria for approval of at-sea monitoring service providers. We approve service providers based on: (1) Completeness and sufficiency of applications; (2) determination of the applicant's ability to meet the performance requirements of a sector monitoring service provider; and (3) documented successful performance in the prior fishing year. We can disapprove any previously approved service provider during the fishing year if the provider fails to meet the performance standards, including required coverage levels. We must notify service providers of disapproval in writing.

Approved Monitoring Service Providers

We received complete applications from five companies: A.I.S., Inc.; East West Technical Services, LLC; MRAG Americas, Inc.; Fathom Research, LLC; and ACD USA Ltd. These five companies were approved for fishing year 2016. We approve all five companies to provide at-sea monitoring services in fishing years 2017 and 2018 because they have met the application requirements, documented their ability to comply with service provider standards, and have met the service provider performance criteria to date in fishing year 2016.

Table 1—Approved Fishing Year 2016 Providers
Provider name | Address | Phone | Fax | Website
ACD USA Ltd | 1801 Hollis St., Suite 1220, Halifax, Nova Scotia, Canada B35 3N4 | 902-749-5107 | 902-749-4552 | www.atlanticcatchdata.ca.
A.I.S., Inc | 14 Barnabas Rd., P.O. Box 1009, Marion, MA 02738 | 508-990-9054 | 508-990-9055 | aisobservers.com.
East West Technical Services, LLC | 1415 Corona Ln., Vero Beach, FL 32963 | 860-910-4957 | 860-223-6005 | www.ewts.com.
Fathom Research, LLC | 1213 Purchase St., Suite 302, New Bedford, MA 02740 | 508-990-0997 | 508-991-7372 | www.fathomresearchllc.com.
MRAG Americas, Inc | 1810 Shadetree Circle, Anchorage, AK 99502 | 978-768-3880 | 978-768-3878 | www.mragamericas.com.

Authority: 16 U.S.C. 1801 et seq.

Dated: December 6, 2016.
Emily H. Menashes,
Acting Director, Office of Sustainable Fisheries, National Marine Fisheries Service.

[FR Doc. 2016-29575 Filed 12-8-16; 8:45 am]

BILLING CODE 3510-22-P